ENVIRONMENTAL PROTECTION AGENCY

[FRL-9319-9]

Notice of Determination of Adequacy of Ohio's Research, Development and Demonstration (RD&D) Permit Provisions for Municipal Solid Waste Landfills

AGENCY: Environmental Protection Agency (EPA).

ACTION: Notice.

SUMMARY: On March 22, 2004, the U.S. EPA issued final regulations allowing research, development and demonstration (RD&D) permits to be issued to certain municipal solid waste landfills by approved states. On March 3, 2011, Ohio submitted an application to the U.S. EPA Region 5 seeking Federal approval of its RD&D. Ohio's RD&D requirements allow the State to issue RD&D permits to owners and operators of MSWLF units in accordance with state law. Subject to public review and comment, this notice approves Ohio's RD&D permit requirements.

DATES: This determination of RD&D program adequacy for Ohio will become effective August 15, 2011 unless adverse comments are received on or before August 15, 2011. If adverse comments are received, the U.S. EPA will review those comments and publish another FR document responding to those comments and either affirming or revising the U.S. EPA's initial decision.

ADDRESSES: Written comments should be sent to Rebecca Geyer, Land and Chemicals Division (Mail Code LM-8J), U.S. EPA Region 5, 77 West Jackson Boulevard, Chicago, Illinois 60604, telephone: (312) 353-8314. Comments may also be submitted electronically to geyer.rebecca@epa.gov or by facsimile at (312) 582-5122. You may examine copies of Ohio's application and relevant portions of Ohio's regulations during normal business hours at U.S. EPA Region 5.

FOR FURTHER INFORMATION CONTACT: Rebecca Geyer, Land and Chemicals Division (Mail Code LM-8J), U.S. EPA Region 5, 77 West Jackson Boulevard, Chicago, Illinois 60604, telephone: (312) 353-8314, geyer.rebecca@epa.gov.

SUPPLEMENTARY INFORMATION:

A. Background

On March 22, 2004, EPA issued a final rule amending the municipal solid waste landfill criteria in 40 CFR Part 258 to allow for research, development and demonstration permits (69 FR 13242). This rule allows for variances from specified criteria for a limited period of time, to be implemented through state-issued RD&D permits. RD&D permits are available only in states with approved MSWLF permit programs that have been modified to incorporate RD&D permit authority. While States are not required to adopt this new provision, those States that are interested in providing RD&D permits to owners and operators of MSWLFs must seek approval from EPA before issuing such permits. Approval procedures for new provisions of 40 CFR Part 258 are outlined in 40 CFR Part 239.12.

Ohio's MSWLF permit program was approved on June 13, 1994 (59 FR 112). On March 3, 2011, Ohio applied for approval of its RD&D permit provisions. Ohio submitted its amended laws under OAC 3745-27-80 to 3745-27-89 for review.

B. Decision

After a thorough review, U.S. EPA Region 5 determined that Ohio's RD&D permit provisions as defined under OAC 3745-27-80 to 3745-27-89 are adequate to ensure compliance with the Federal criteria as defined at 40 CFR Part 258.4.

Authority: This action is issued under the authority of section 2002, 4005 and 4010(c) of the Solid Waste Disposal Act, as amended, 42 U.S.C. 6912, 6945 and 6949(a).

Dated: June 3, 2011.
Susan Hedman,
Regional Administrator, U.S. EPA Region 5.

[FR Doc. 2011-15001 Filed 6-15-11; 8:45 am]

BILLING CODE 6560-50-P